DEPARTMENT OF COMMERCE

National Oceanic and Atmospheric Administration

50 CFR Part 660

RIN 0648-BM14

Fisheries Off West Coast States; Pelagic Species Fisheries; Amendment 20 to the Coastal Pelagic Species Fishery Management Plan

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 20 to the Coastal Pelagic Species (CPS) Fishery Management Plan (FMP) for review by the Secretary of Commerce. The intent of Amendment 20 is to improve clarity in the management framework for CPS stocks. This action is administrative in nature and does not change management for CPS stocks, just certain nomenclature in the FMP. This proposed Amendment is intended to promote the goals and objectives of the Magnuson-Stevens Fishery Conservation and Management Act (Magnuson-Stevens Act), the CPS FMP, and other applicable laws.

DATES: Comments on the proposed rule must be received by May 22, 2023 to be considered in the decision whether to approve, disapprove, or partially approve Amendment 20.

ADDRESSES: You may submit comments on this document, identified by NOAA-NMFS-2023-0035, by the following method:

• Electronic Submissions: Submit all electronic public comments via the Federal e-Rulemaking Portal. Go to https://www.regulations.gov and enter NOAA-NMFS-2023-0035 in the Search box. Click the “Comment” icon, complete the required fields, and enter or attach your comments.

Instructions: Comments must be submitted by the above method to ensure that the comments are received, documented, and considered by NMFS. Comments sent by any other method, to any other address or individual, or received after the end of the comment period, may not be considered. All comments received are a part of the public record and will generally be posted for public viewing on https://www.regulations.gov without change. All personal identifying information (e.g., name, address, etc.) submitted voluntarily by the sender will be publicly accessible. Do not submit confidential business information, or otherwise sensitive or protected information. NMFS will accept anonymous comments (enter “N/A” in the required fields if you wish to remain anonymous).

Copies of the draft Amendment 20 and other supporting documents are available via the Federal eRulemaking Portal: https://www.regulations.gov, docket NOAA-NMFS-2023-0035.

FOR FURTHER INFORMATION CONTACT: Taylor Debevec at (562) 980-4066 or taylor.debevec@noaa.gov.

SUPPLEMENTARY INFORMATION: The CPS FMP has used the terms “Active” and “Monitored” since Amendment 8 to the FMP to categorize how the various CPS stocks are managed and to direct management and research efforts where they were most needed. However, in 2018 the Council initiated an effort to address a perceived lack of clarity regarding the meaning and use of these terms. The Council directed its CPS Management Team to explore ways to remove the naming distinction of management categories, while maintaining existing management. The Council subsequently considered the issue at its June 2019 and November 2021 meetings, with final action taking place at its April 2022 meeting.

Amendment 20 to the CPS FMP would remove “Active” and “Monitored” terms from the FMP and incorporate additional modifications in place of those terms to ensure flow and readability of the FMP. The proposed changes to the CPS FMP are described in further detail below.

In Section 1.1 of the FMP, a description of Amendment 20 would be added to the list of amendments to the FMP.

In Section 1.3, the title would be changed to remove reference to categories and the categorical terms, and category descriptions would be removed and replaced with generalized descriptions of how CPS stocks are managed. Additional details would be added to distinguish krill from these categorical descriptions as fishing for krill is prohibited.

In section 1.5, the definitions for “Actively Managed Species” and “Monitored Species” would be removed and the definition of “Prohibited Harvest Species” would be updated to further distinguish it from categorical management.

In section 2.1.2, a reference example regarding switching a “monitored species” to an “actively managed species” would be removed.

In sections 4.6 and 4.6.1, the harvest control rules would remain unchanged, but instead of being associated with “active” and “monitored” categories, there would be new descriptions for the types of species for which each harvest control rule is best suited.

In section 4.6.4, “Monitored Stocks” would be removed from the title and replaced with the individual names to which “monitored stocks” referred: northern anchovy, jack mackerel, and market squid.

There would be additional minor changes scattered in chapters 1 and 4, and no changes to chapters 3 and 5.

All comments received by the end of the comment period on the Amendment (see DATES and ADDRESSES above) will be considered in the Secretary's decision to approve, disapprove, or partially approve this Amendment. To be considered in this decision, comments must be received by close of business on the last day of the comment period; that does not mean postmarked or otherwise transmitted by that date.

Authority: 16 U.S.C. 1801 et seq.

Dated: March 17, 2023.
Jennifer M. Wallace,
Acting Director, Office of Sustainable Fisheries, National Marine Fisheries Service.

[FR Doc. 2023-05885 Filed 3-22-23; 8:45 am]

BILLING CODE 3510-22-P